NATIONAL SCIENCE FOUNDATION

Notice of Waste Management Permit Application Received Under the Antarctic Conservation Act of 1978

AGENCY: National Science Foundation.

ACTION: Notice of a Waste Management Permit Application Received Under the Antarctic Conservation Act.

SUMMARY: Notice is hereby given that the National Science Foundation (NSF) has received a waste management permit application for Mike Libecki and his team to conduct a skiing and mountaineering expedition to Queen Maud Land from November 6 to December 31, 2012. The application by Mike Libecki of Salt Lake City, Utah is submitted to NSF pursuant to regulations issued under the Antarctic Conservation Act of 1978.

DATES: Interested parties are invited to submit written data, comments, or views with respect to this permit application within November 14, 2012. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-8030.

SUPPLEMENTARY INFORMATION: NSF's Antarctic Waste Regulation, 45 CFR Part 671, requires all U.S. citizens and entities to obtain a permit for the use or release of a designated pollutant in Antarctica, and for the release of waste in Antarctica. NSF has received a permit application under this Regulation for skiing and mountaineering expedition in Queen Maud Land. The expedition will depart Cape Town, South Africa and fly to Novolazerevskaya Station, then onto to Wolthat Mountains in Queen Maud Land to set up base camp.

Designated pollutants that would be associated with the expedition are white gas for cooking, kitchen waste, solid waste, trash, batteries, and human waste (urine and human solid waste). All waste will be stored in plastic barrels and returned to Cape Town for disposal. If camping fuel is spilled, the contaminated snow and ice will be contained in waste barrels and brought to Cape Town for disposal.

The permit applicant: Mike Libecki, Salt Lake City, Utah, Permit application No. 2013 WM-004.

Nadene G. Kennedy,
Permit Officer.

[FR Doc. 2012-25217 Filed 10-12-12; 8:45 am]

BILLING CODE 7555-01-P